DEPARTMENT OF ENERGY

Federal Energy Regulatory Commission

[Project No. 6132-006]

Facilitators Improving Fish Habitat; Notice of Availability of Environmental Assessment

October 5, 2001.

In accordance with the National Environmental Policy Act of 1969 and the Federal Energy Regulatory Commission's (Commission's) regulations, the Office of Energy Projects has reviewed the application dated July 11, 2001, requesting the Commission's approval to surrender the Exemption and removal of a dam at the John C. Jones Project, located on the Marsh Stream, a tributary of the Penobscot River, near the towns of Winterport and Frankfort, in Waldo County, Maine, and has prepared an Environmental Assessment (EA) for the proposed and alternative actions.

Copies of the EA can be viewed at the Commission's Public Reference Room, Room 2A, 888 First Street, NE, Washington, DC 20426, or by calling (202) 208-1371. Copies of this filing are on file with the Commission and are available for public inspection. This document may also be viewed on the web at http://www.ferc.gov using the “RIMS” link, select “Docket#” and follow the instructions (call 202-208-2222 for assistance).

Any comments on the EA should be filed within 30 days from the date of this notice and should be addressed to: David P. Boergers, Secretary, Federal Energy Regulatory Commission, 888 First Street, NE., Washington, DC, 20426. Please affix “John C. Jones Project No. 6132-006” to the first page of your comments. All timely filed comments will be considered in the Commission order addressing the proposed surrender of exemption and dam removal. Comments, protests and interventions may be filed electronically via the Internet in lieu of paper. See, 18 CFR 385.2001(a)(1)(iii) and the instructions on the Commission's web site under the “e-Filing” link.

For further information, please contact Jack Hannula at (202) 219-0116.

Linwood A. Watson, Jr.,
Acting Secretary.

[FR Doc. 01-25630 Filed 10-11-01; 8:45 am]

BILLING CODE 6717-01-P